DEPARTMENT OF DEFENSE

Office of the Secretary

Meeting of the Defense Department Advisory Committee on Women in the Services (DACOWITS)

AGENCY: Department of Defense.

ACTION: Notice.

SUMMARY: Pursuant to Section 10(a), Public Law 99-463, as amended, notice is hereby given of a forthcoming meeting of the Defense Department Advisory Committee on Women in the Services (DACOWITS). The purpose of the Committee meeting is to discuss the 2005 DACOWITS Report. The meeting is open to the public, subject to the availability of space.

Interested persons may submit a written statement for reconsideration by the Committee and make an oral presentation of such. Persons desiring to make an oral presentation or submit a written statement to the Committee must notify the point of contact listed below no later than 5 p.m., 28 November 2005. Oral presentations by members of the public will be permitted only on Monday, 5 December 2005 from 4 p.m. to 4:15 p.m. before the full Committee. Presentations will be limited to two minutes. Number of oral presentations to be made will depend on the number of requests received from members of the public. Each person desiring to make an oral presentation must provide the point of contact listed below with one (1) copy of the presentation by 5 p.m., 28 November 2005 and bring 35 copies of any material that is intended for distribution at the meeting. Persons submitting a written statement must submit 35 copies of the statement to the DACOWITS staff by 5 p.m. on 28 November 2005.

DATES: December 5, 2005, 8:30 a.m.-5 p.m.; December 6, 2005, 8:30 a.m.-5 p.m.; December 7, 2005, 8:30 a.m.-5 p.m.

ADDRESSES: Double Tree Hotel Crystal City National Airport, 300 Army Navy Drive, Arlington, VA 22202.

FOR FURTHER INFORMATION CONTACT: MSgt Gerald Posey, USAF DACOWITS, 4000 Defense Pentagon, Room 2C548A, Washington, DC 20301-4000. Telephone (703) 697-2122. Fax (703) 614-6233.

SUPPLEMENTARY INFORMATION: Meeting agenda.

Monday, 5 December 2005, 8:30 a.m.-5 p.m.

Review and Vote on 2005 DACOWITS Report Recommendations.

Public Forum.

Evening Farewell Event for Departing Members.

Tuesday, 6 December 2005, 8:30 a.m.-5 p.m.

Brief OSD Leadership on 2005 Findings and Recommendations.

Lessons Learned 2002-2005.

Wednesday, 7 December 2005, 8:30 a.m.-5 p.m.

New Member Training.

Note: Exact order may vary.

Dated: November 16, 2005.
L.M. Bynum,
Alternate OSD Federal Register Liaison Officer, Department of Defense.

[FR Doc. 05-23067 Filed 11-21-05; 8:45 am]

BILLING CODE 5001-06-M